DEPARTMENT OF COMMERCE

International Trade Administration

Membership of the International Trade Administration Performance Review Board

AGENCY: International Trade Administration, Department of Commerce.

ACTION: Notice of Membership on the International Trade Administration Performance Review Board.

SUMMARY: The International Trade Administration (ITA), Department of Commerce (DOC), announces the appointment of those individuals who have been selected to serve as members of ITA Performance Review Board. The Performance Review Board is responsible for (1) reviewing performance appraisals and ratings of Senior Executive Service (SES) members and (2) making recommendations to the appointing authority on other performance management issues, such as pay adjustments and bonuses. The appointment of these members to the Performance Review Board will be for a period of twenty-four (24) months.

DATES: The period of appointment for those individuals selected for ITA's Performance Review Board begins on October 5, 2022.

FOR FURTHER INFORMATION CONTACT: Christine Covington, U.S. Department of Commerce, Office of Human Resources Management, Office of Executive Resources, 14th and Constitution Avenue NW, Room 50021, Washington, DC 20230, at (202) 482-2613.

SUPPLEMENTARY INFORMATION: In accordance with 5 U.S.C. 4314(c)(4), the International Trade Administration (ITA), Department of Commerce (DOC), announces the appointment of those individuals who have been selected to serve as members of the ITA Performance Review Board. The Performance Review Board is responsible for (1) reviewing performance appraisals and ratings of Senior Executive Service (SES) members and (2) making recommendations to the appointing authority on other Performance management issues, such as pay adjustments and bonuses. The Appointment of these members to the Performance Review Board will be for a period of twenty-four (24) months.

The name, position title, and type of appointment of each member of the Performance Review Board are set forth below:

1. Alex Villanueva, Senor Director, Career SES

2. James Maeder, Deputy Assistant Secretary for AD/CVD Operations Career SES

3. Isabel Hannah, Director for Facilities and Environmental Quality, OS Career SES

4. Veronica LeGrande, Chief, Human Resources Division, Bureau of the Census, Career SES

5. Octavia Saine, Chief Administrative Officer, OGC Career SES

6. Steven Presing, Executive Director for Anti-Dumping and Subsidies Policy and Negotiation Career SES

7. Jennifer Knight, Deputy Assistant Secretary for Textiles, Consumer goods and Materials, Non-Career SES

8. Ian Saunders, Deputy Assistant Secretary for Western Hemisphere, Career SES

9. Cara Morrow, Director of Policy, Non-Career SES

10. Cynthia Aragon, Director, Advocacy Center, ITA Non-Career SES

11. Praveen Dixit, Deputy Assistant Secretary for Trade Policy and Analysis, Career SES

Dated: September 30, 2022.
Christine Covington,
Human Resources Specialist, Office of Executive Resources, Office of Human Resources Management, Office of the Secretary, Department of Commerce.

[FR Doc. 2022-21617 Filed 10-4-22; 8:45 am]

BILLING CODE 3510-DS-P